NATIONAL TRANSPORTATION SAFETY BOARD

Sunshine Act Meeting; Agenda

Time and Date: 9:30 a.m., Tuesday, September 16, 2008.

PLACE: NTSB Conference Center, 429 L'Enfant Plaza, SW., Washington, DC 20594.

STATUS: The three items are open to the public.

MATTERS TO BE CONSIDERED:

8042 Special Investigation Report on the Safety of Parachute Jump Operations.

8040 Aircraft Accident Summary Report on Crash of Skydive Quantum Leap, de Havilland DHC-6-100, N203E, Sullivan, Missouri, July 29, 2006.

8041 Highway Accident Report—Truck-Tractor Semitrailer Rollover and Motorcoach Collision With Overturned Truck, Interstate Highway 94, Near Osseo, Wisconsin, October 16, 2005.

News Media Contact: Telephone: (202) 314-6100.

Individuals requesting specific accommodations should contact Rochelle Hall at (202) 314-6305 by Friday, September 12, 2008.

The public may view the meeting via a live or archived Web cast by accessing a link under “News & Events” on the NTSB home page at http://www.ntsb.gov.

For More Information Contact: Vicky D'Onofrio, (202) 314-6410.

Dated: September 5, 2008.
Vicky D'Onofrio,
Federal Register Liaison Officer.

[FR Doc. E8-21024 Filed 9-5-08; 4:15 pm]

BILLING CODE 7533-01-P